DEPARTMENT OF JUSTICE

Notice of Lodging of Proposed Settlement Agreement Under the Clean Air Act

On May 16, 2019, the Department of Justice lodged a proposed Stipulation of Settlement and Order (“Agreement”) with the United States District Court for the District of Massachusetts in the lawsuit entitled United States v. Kayem Foods, Inc., Civil Action No. 1:19-cv-11126.

In this action, the United States filed a complaint alleging that Kayem Foods, Inc. (“Kayem”) violated Section 112(r)(7) of the Clean Air Act, 42 U.S.C. 7412(r)(7), at Kayem's food processing facility located in Chelsea, Massachusetts. Section 112(r)(7) of the CAA, 42 U.S.C. 7412(r)(7), provides that the Administrator of the EPA is authorized to promulgate regulations requiring owners or operators of a stationary source at which a regulated substance is present in more than a threshold amount to, among other things, prepare and implement a risk management plan to detect and prevent or minimize accidental releases of regulated substances from the stationary source, and to provide a prompt emergency response to any such releases in order to protect human health and the environment. EPA has promulgated regulations to implement Section 112(r)(7), codified at 40 CFR part 68 (“Part 68 Regulations”). The Complaint alleges that Kayem violated the Part 68 Regulations in connection with the operation of its ammonia refrigeration system at its Chelsea facility and seeks the payment of civil penalties.

The proposed Agreement resolves Kayem's civil liability to the United States for the alleged violations in the Complaint. Pursuant to the proposed Agreement, Kayem will pay a penalty of $138,281. Injunctive relief is not required.

The publication of this notice opens a period for public comment on the Agreement. Comments should be addressed to the Assistant Attorney General, Environment and Natural Resources Division, and should refer to United States v. Kayem Foods, Inc.. No. 1:19-cv-11126 (D. Mass.) D.J. Ref. No. 90-5-2-1-11490. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Agreement may be examined and downloaded at this Justice Department website: https://www.justice.gov/enrd/consent-decrees. We will provide a paper copy of the Agreement upon written request and payment of reproduction costs. Please mail your request and payment to: Consent Decree Library, U.S. DOJ—ENRD, P.O. Box 7611, Washington, DC 20044-7611.

Please enclose a check or money order for $2.75 (25 cents per page reproduction cost) payable to the United States Treasury.

Robert Maher,
Assistant Section Chief, Environmental Enforcement Section, Environment and Natural Resources Division.

[FR Doc. 2019-10673 Filed 5-21-19; 8:45 am]

BILLING CODE 4410-15-P